DEPARTMENT OF HEALTH AND HUMAN SERVICES

Health Resources and Services Administration

National Advisory Committee on Rural Health and Human Services; Notice of Meeting

In accordance with section 10(a)(2) of the Federal Advisory Committee Act (Pub. L. 92-463), notice is hereby given that the following Committee will convene its sixty-third meeting.

Name: National Advisory Committee on Rural Health and Human Services.

Dates and Times: June 14, 2010, 9 a.m.-4:45 p.m.

June 15, 2010, 8:30 a.m.-4 p.m.

June 16, 2010, 8:45 a.m.-11 a.m.

Place: Doubletree Guest Suites Charleston-Historic District, 181 Church Street, Charleston, SC 29401.

Phone: 843-577-2644.

Status: The meeting will be open to the public.

Purpose: The National Advisory Committee on Rural Health and Human Services provides advice and recommendations to the Secretary with respect to the delivery, research, development and administration of health and human services in rural areas.

Agenda: Monday morning, at 9 a.m., the meeting will be called to order by the Chairperson of the Committee, the Honorable David Beasley. The first two presentations will be overviews of rural South Carolina. The remainder of the day the Committee will hear presentations on the three chosen Subcommittee topics. The first panel will focus on childhood obesity in rural communities. The second panel will focus on rural implications of the HHS Caring Communities for Young Children Initiative. The final panel of the day is focusing on the rural implications of payment bundling and accountable care organizations. After the panel discussions, the Committee Chair will give an overview of the site visits. This will be followed by a call for public comment. The Monday meeting will close at 4:45 p.m.

Tuesday morning, at 8:30 a.m., the Committee will break into Subcommittees and depart to the site visits. The Childhood Obesity Subcommittee and the Young Children's Initiative Subcommittee will meet at Eat Smart, Move More—Walterboro, SC. The Payment Bundling Subcommittee will meet in Manning, SC at Clarendon Memorial Hospital. The subcommittees will return to the Doubletree Hotel in Charleston at 4 p.m. Transportation to the site visits will not be provided to the public. The Tuesday meeting will close at 4 p.m.

The final session will be convened on Wednesday morning at 8:45 a.m. The meeting will open with a review of the Subcommittee site visits. The staff of the Office of Rural Health Policy will provide an update on the Department of Health and Human Services. The Committee will draft a letter to the Secretary or Designee and discuss the September 2010 meeting. The meeting will be adjourned at 11 a.m.

FOR FURTHER INFORMATION CONTACT: Thomas Morris, MPA, Acting Executive Secretary, National Advisory Committee on Rural Health and Human Services, Health Resources and Services Administration, Parklawn Building, Room 10B-45, 5600 Fishers Lane, Rockville, MD 20857, Telephone (301) 443-0835, Fax (301) 443-2803.

Persons interested in attending any portion of the meeting should contact Michele Pray Gibson, Office of Rural Health Policy (ORHP), and Telephone (301) 443-0835. The Committee meeting agenda will be posted on ORHP's Web site http://www.ruralhealth.hrsa.gov.

Dated: May 19, 2010.
Sahira Rafiullah,
Director, Division of Policy and Information Coordination.

[FR Doc. 2010-12515 Filed 5-24-10; 8:45 am]

BILLING CODE 4165-15-P